DEPARTMENT OF TRANSPORTATION

Federal Motor Carrier Safety Administration

Qualification of Drivers; Exemption Applications; Vision

AGENCY: Federal Motor Carrier Safety Administration (FMCSA), DOT.

ACTION: Notice of denials.

SUMMARY: FMCSA announces its denial of 103 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Dr. Mary D. Gunnels, Director Medical Programs, 202-366-4001, U.S. Department of Transportation, FMCSA, 1200 New Jersey Avenue, SE., Room W64-224, Washington, DC 20590-0001. Office hours are from 8:30 a.m. to 5 p.m. Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to, or greater than, the level that would be achieved absent such an exemption.” The procedures for requesting an exemption are set forth in 49 CFR part 381.

Accordingly, FMCSA evaluated 103 individual exemption requests on their merit and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following 11 applicants lacked sufficient driving experience during the 3-year period prior to the date of their applications:

Tonny Bailey | Randall S. Grauer | Wesley A. Roberson
Charles J. Dawber | Darrell A. Harmon | David M. Taylor
Richard C. Dickinson | Thomas W. Keel, Jr. | David M. Wcisel
Harold L. Elders | Jay Rider

The following 7 applicants had no experience operating a CMV:

Floyd Aldridge | William Chisley | Keith M.Vanderhyde
Stanly J. Baumann | William Cusano
Janie Burford | Shelby B. Richardson

The following 24 applicants did not have 3 years of experience driving a CMV on public highways with the vision deficiency:

Dwight D. Andersen | Kenneth P. Littlefield | Michael R. Spieth
William M. Bell | Ricardo A. Montano | Troy M. Standifer
Barry Bunker | George Edward Mulherrin III | Alan D. Strain
John P. Chuda | Mark Paugh | Ronald R. Sumpter
David L. Ellis | James Perusse | George G. Ulferts, Jr.
Darrel E. Graumann | Larry Robins | Michael S. Westervelt
Ronald Hutchins | Stanley W. Rowden | Michael P. Witkowski
James Jaramillo | Clayton Slone | Brian P. Wunn

The following 6 applicants did not have 3 years of recent experience driving a CMV with the vision deficiency:

Ronald C. Ashley | Anthony Chastain | Allen L. Segotta
John E. Cahall | Terrance J. Hurley | Kevin Weaver

The following 18 applicants did not have sufficient driving experience during the past 3 years under normal highway operating conditions:

Raymond W. Anderson | Steve Garrett | Wayne A. LeClaire
Andres Castanon, Jr. | Marc D. Groszkrueger | Christopher J. McCulla
Dickie R. Clough | Darris Hardwidge | Darrell Rogers
Scott A. Cole | Shawn M. Hebert | Karl H. Strangfeld
Richard W. Futrell | Milan Jokic | Jacob E. Wadewitz
Carlos R. Galarza | Douglas Jones | Stephen H. Ward

The following 3 applicants had more than 2 commercial motor vehicle violations during the application process. Each applicant is only allowed 2 moving citations:

Wesley M. Creamer | Gregory C. Simmons | Christopher J. Van Dyke

One applicant, William E. Woodhouse, has other medical conditions making him unqualified under Federal Motor Carrier Safety Regulations. All applicants must meet all other physical qualifications standards in 49 CFR 391.41(b)(1-13).

Two applicants, Shorty Ellis and Charles J. Kruggel, had commercial driver's license suspensions during the 3-year review period for moving violations. Applicants do not qualify for an exemption with a suspension during the 3-year period.

One applicant, James F. Partin, did not have verifiable proof of commercial driving experience over the past 3 years under normal highway operating conditions that would serve as an adequate predictor of future safe performance.

The following 5 applicants were denied for miscellaneous/multiple reasons:

Samuel Golden | Matthew B. Lairamore | John Thomas White, Jr.
David W. Herbert | Gerald Lord

The following 16 applicants met the current federal vision standards. Exemptions are not required for applicants who meet the current regulations for vision:

Anthony Benally | Craig R. Gross | Gaylon Nelson
Larry D. Cooper | Ray O. Howell | Brian J. Ruzalski
Sid L. Crumpton | Ervin A. Kope | Travis Stroming
Gerald Davis | Fernando M. Magana | Todd M. Sucharda
Eric N. Fitzgerald | Ignacio V. Maldonado | Scott M. Tommen
Larry D. Cooper | Richard G. Myers

One applicant, Thomas D. Laws, was issued a medical certificate for 3 months. Applicants with a medical certificate valid for less than 6 months do not meet the exemption program eligibility criteria.

The following 7 applicants drove interstate while restricted to intrastate driving:

John Gallagher | Steven R. Parker | Michael Watters
Derrick A. Hardy | Jay L. Pendergas
John F. Murphy | Mohammad Suhail

Finally, one applicant, Wilford Mendoza, will not be driving interstate, interstate commerce, or not required to carry a DOT medical card.

Issued on: December 6, 2010.
Larry W. Minor,
Associate Administrator, Office of Policy.

[FR Doc. 2010-31267 Filed 12-13-10; 8:45 am]

BILLING CODE 4910-EX-P